DEPARTMENT OF TRANSPORTATION

National Highway Traffic Safety Administration

49 CFR Part 571

[Docket No. NHTSA-2007-29272]

RIN 2127-AK04

Federal Motor Vehicle Safety Standards; Controls, Telltales and Indicators

AGENCY: National Highway Traffic Safety Administration (NHTSA), Department of Transportation (DOT).

ACTION: Notice of proposed rulemaking (NPRM).

SUMMARY: In an August 2005 final rule, we updated our standard regulating motor vehicle controls, telltales and indicators. The standard specifies requirements for the location, identification, and illumination of these items.

In May 2006, we published a response to four petitions for reconsideration, including one asking us to reconsider a requirement for color contrast between identifiers and their backgrounds. We denied this petition for reconsideration.

We received another petition for reconsideration from the Alliance of Automobile Manufacturers (the Alliance) of the color contrast requirement, specifically for the horn control identifier. In this document, we grant the Alliance's petition in part. We propose to amend the standard to provide that an identifier is not required if the horn control is placed in the middle of the steering wheel. If the horn control is placed elsewhere in the motor vehicle, the control would be required to be identified by the specified horn symbol in a color that stands out clearly against the background.

DATES: You should submit your comments early enough to ensure that Docket Management receives them not later than December 3, 2007.

ADDRESSES: You may submit comments to the docket number identified in the heading of this document by any of the following methods:

• Federal eRulemaking Portal: Go to http://www.regulations.gov. Follow the online instructions for submitting comments.

• Fax: 1-202-493-2251.

• Mail: Docket Operations, M-30, U.S. Department of Transportation, West Building, Ground Floor, Rm. W12-140, 1200 New Jersey Avenue, SE., Washington, DC 20590.

• Hand Delivery or Courier: Docket Operations, M-30, West Building, Ground Floor, Rm. W12-140, 1200 New Jersey Avenue, SE., Washington, DC, between 9 a.m. and 5 p.m., Eastern Time, Monday through Friday, except Federal Holidays.

Instructions: All submissions must include the agency name and docket number or Regulatory Identification Number (RIN) for this rulemaking. For detailed instructions on submitting comments and additional information on the rulemaking process, see the Public Comments heading of the SUPPLEMENTARY INFORMATION section of this document. Note that all comments received will be posted without change to http://www. regulations.gov, including any personal information provided. Please see the Privacy Act heading under Regulatory Notices.

Docket: For access to the docket to read background documents or comments received, go to http://www.regulations.gov at any time or to West Building, Ground Floor, Room W12-140, 1200 New Jersey Avenue, SE., Washington, DC, between 9 a.m. and 5 p.m., Eastern Time, Monday through Friday, except Federal Holidays.

FOR FURTHER INFORMATION CONTACT: For non-legal issues you may call Ms. Gayle Dalrymple, Office of Crash Avoidance Standards at (202) 366-5559. Her FAX number is (202) 366-7002. For legal issues, you may call Ms. Dorothy Nakama, Office of the Chief Counsel at (202) 366-2992. Her FAX number is (202) 366-3820. You may send mail to both of these officials at National Highway Traffic Safety Administration, 1200 New Jersey Avenue, SE., Washington, DC 20590.

SUPPLEMENTARY INFORMATION:

I. Background

NHTSA issued Federal Motor Vehicle Safety Standard (FMVSS) No. 101, Controls and Displays, in 1967 (32 FR 2408) as one of the initial FMVSSs. The standard applies to passenger cars, multipurpose passenger vehicles (MPVs), trucks, and buses. The purpose of FMVSS No. 101 is to assure the accessibility and visibility of motor vehicle controls and displays under daylight and nighttime conditions, in order to reduce the safety hazards caused by the diversion of the driver's attention from the driving task, and by mistakes in selecting controls.

At present, FMVSS No. 101 specifies requirements for the location (S5.1), identification (S5.2), and illumination (S5.3) of various controls and displays. It specifies that those controls and displays must be accessible and visible to a driver properly seated wearing his or her safety belt. Table 1, “Controls, Telltales and Indicators with Illumination or Color Requirements,” and Table 2, “Identifiers for Controls, Telltales and Indicators with No Color or Illumination Requirements,” indicate which controls and displays are subject to the identification requirements, and how they are to be identified, colored, and illuminated.

A. August 2005 Final Rule

In a final rule published in the Federal Register (70 FR 48295) on August 17, 2005, NHTSA amended FMVSS No. 101 by extending the standard's telltale and indicator requirements to vehicles of Gross Vehicle Weight Rating (GVWR) 4,536 kilograms (10,000 pounds) and over, updating the standard's requirements for multi-function controls and multi-task displays to make the requirements appropriate for advanced systems, and reorganizing the standard to make it easier to read. Table 1 and Table 2 continue to include only those symbols and words previously specified in the controls and displays standard or in another applicable FMVSS.

The final rule specified an effective date of February 13, 2006 for requirements applicable to passenger cars, multipurpose passenger vehicles, trucks and buses under 4,536 kg GVWR (10,000 pounds).¹

¹ The effective date was subsequently extended to September 1, 2006 (71 FR 3786, January 24, 2006).

II. May 2006 Final Rule; Response to Petitions for Reconsideration

NHTSA received petitions for reconsideration of the August 17, 2005 final rule, from the Truck Manufacturers Association (TMA), the Association of International Automobile Manufacturers (AIAM) and the Alliance. In the August 17, 2005 final rule, the requirement that the identifier for each telltale must be in a color that stands out clearly against the background was extended to identifiers for controls and indicators (see S5.4.3). The Alliance asked for reconsideration of this requirement, stating that not all identifiers are in a color that stands out clearly against the background. The Alliance further stated that it is not needed, citing as an example the horn identifier.

Most vehicle models use the horn symbol as the identifier, which is molded into the air bag cover, without a color “that stands out clearly against the background” filled in. The Alliance commented that: “The symbol is the same color as the background, but it can still be recognized because the embossment stands out against the background.” The Alliance petitioned for the regulatory text at S5.4.3 to be changed to: “The identification required by Table 1 or Table 2 for a telltale, control or indicator shall contrast with the background.”

In the May 15, 2006 final rule, response to petitions for reconsideration (71 FR 27964), we noted that over the years, the agency had received numerous complaints regarding the inability to locate the horn control. NHTSA's Office of Defects Investigation's ARTEMIS database has recorded 120 complaints in the past ten years from consumers reporting trouble locating the horn control. Of these 120 complaints, consumers reported 12 crashes, nine near misses, and an allegation of a fatality. In the response, NHTSA explained that filling in the horn symbol with a color “that stands out clearly against the background” would make the horn control more visible and would help drivers to find the control more readily. For these reasons, we denied this part of the Alliance's petition.

To minimize costs on industry resulting from this requirement, NHTSA delayed the compliance date to meet S5.4.3 for five years, to September 1, 2011 to “allow manufacturers to implement the necessary changes on most products during the planned product changes in normal product development cycles.”

III. Petition for Reconsideration of the Color Contrast Requirement

In a submission dated June 29, 2006, the Alliance petitioned for a reconsideration of the color contrast requirement for the horn symbol. This was the only issue raised in the petition. Again, the Alliance petitioned for the regulatory text at S5.4.3 to be changed to: “The identification required by Table 1 or Table 2 for a telltale, control or indicator shall contrast with the background.” In support of its petition, the Alliance stated that:

• NHTSA denied the Alliance's previous petition based on a previously undisclosed analysis of complaints;

• “[I]t is unclear and cannot be evaluated whether the complaints referred to by NHTSA were related to actual horn symbol identification,”

• The complaint information should be submitted to the DOT Docket;

• “[S]ignificant cost and investment will still be required across the industry,” to accomplish color contrast of the horn symbol on the background of the steering wheel, despite the fact that the Alliance agrees that the lead time afforded by the May 2006 final rule is adequate “for compliance with this section in order to minimize the associated financial impact * * *”;

• A “significant concern” is the “compatibility of materials that may be used to assure long term symbol identification durability and contrast * * *” and that this new combination of materials may “adversely affect airbag cover performance, requiring further engineering development. Environmental and manufacturing issues related to providing horn symbol contrast cannot be assessed until the materials and processes are defined” and;

• The UN working group considering a GTR ² on controls and displays is the appropriate forum to understand and discuss horn identification problems.

² The United States participates in the United Nations/Economic Commission for Europe World Forum for Harmonization of Vehicle Regulations (also known as Working Party 29 or WP.29) under a 1990 agreement known as the 1998 Global Agreement. The 1998 Global Agreement provides for the establishment of global technical regulations (GTRs) regarding, among other things, the safety of motorized wheeled vehicles, equipment and parts. The Agreement contains procedures for establishing GTRs by either harmonizing existing regulations or developing new ones.

Furthermore, on October 17, 2006, the Alliance presented a data analysis to NHSTA staff of complaints regarding horn control identification on various member companies' vehicles. (The presentation has been placed in The DOT Docket at NHTSA-2006-23651.) The analysis revealed that as manufacturers have adopted membrane switches in the center of the steering wheel to activate the horn, consumer complaints about horn identification have decreased substantially.

IV. Grant of Petition for Reconsideration and Notice of Proposed Rulemaking

NHTSA has been persuaded by the Alliance's petition and accompanying data, and grants its petition for reconsideration regarding S5.4.3. We believe the Alliance's analysis provided on October 17, 2006 has merit. Driver confusion as to the location of the horn control has decreased as the horn control is returned where drivers intuitively expect to find it to the center of the steering wheel hub on more vehicles. If the horn control is located where most drivers expect it, the agency believes there is little safety benefit from the presence of the horn identifier. In fact, requiring the identifier on or adjacent to the control, may contribute to driver confusion as manufacturers opt to place the identifier adjacent to the control, rather than too close to the large, multi-colored, company logo displayed on many vehicles at the center of the wheel.

At present, S5. Requirements of FMVSS No. 101 states: “Each passenger car, multipurpose passenger vehicle, truck and bus that is fitted with a control, a telltale or an indicator listed in Table 1 or Table 2 must meet the requirements of this standard for the location, identification, color, and illumination of the control, telltale, or indicator.” The horn control indicator is specified in Table 2. So that horn controls that are in the middle of the steering wheel would not have to meet S5., in this NPRM, we propose to amend S5.4.3 of FMVSS No. 101 to read:

Each identifier used for the identification of a telltale, control or indicator must be in a color that stands out clearly against the background. However, no identifier is required for a horn control activated by the driver pressing on the center of the face plane of the steering wheel. For vehicles with a GVWR of under 4,536 kg (10,000 pounds), the compliance date for this provision is September 1, 2011.

The word “symbol” is proposed to be changed to “identifier” to more accurately include words and abbreviations as identifiers which are required to contrast with their backgrounds, as was done in the previous final rules to other sections of the standard. This was pointed out by the Alliance in its current petition.

We are not proposing the Alliance's suggested language (“The identification required by Table 1 or Table 2 for a telltale, control or indicator shall contrast with the background.”) because we believe it is too broad. It would allow non-contrasting identifiers for telltales, indicators and controls whenever they appear in the vehicle (such as the instrument panel).

At present, S5.2.1 states in part: “* * * No identification is required for any horn (i.e. audible warning signal) that is activated by a lanyard or for a turn signal * * *” To make S5.2.1 consistent with the changes to S5.4.3, in this NPRM, we are proposing to revise the fourth sentence in S5.2.1 to state in part: “* * * No identification is required for any horn (i.e., audible warning signal) that is activated by a lanyard or by the driver pressing on the center of the face plane of the steering wheel * * *”.

V. Proposed Leadtime

We propose for vehicles under 10,000 pounds that the compliance date for S5.4.3 would continue to be September 1, 2011. The compliance date for the extension of the standard's control, indicator, and telltale requirements to vehicles with at GVWR of 4, 536 kg (10,000 pounds) or greater would continue to be September 1, 2013. If this NPRM is made final, optional early compliance would be permitted as of the date the final rule is published.

VI. Public Comments

How Do I Prepare and Submit Comments?

Your comments must be written in English. To ensure that your comments are correctly filed in the Docket, please include the docket number of this document in your comments.

Please submit two copies of your comments, including any attachments, to Docket Management at the address given above under ADDRESSES.

Comments may also be submitted to the docket electronically by logging onto the Dockets Management System Web site at http://www.regulations.gov. Follow the online instructions for submitting comments.

How Can I Be Sure That My Comments Were Received?

If you wish Docket Management to notify you upon its receipt of your comments, enclose a self-addressed, stamped postcard in the envelope containing your comments. Upon receiving your comments, Docket Management will return the postcard by mail. Each electronic filer will receive electronic confirmation that his or her submission has been received.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter delineating that information, as specified in our confidential business information regulation. (See 49 CFR Part 512).

Will the Agency Consider Late Comments?

We will consider all comments that Docket Management receives before the close of business on the comment closing date indicated above under DATES. To the extent possible, we will also consider comments that Docket Management receives after that date. If Docket Management receives a comment too late for us to consider it in developing a rule (assuming that one is issued), we will consider that comment as an informal suggestion for future rulemaking action.

How Can I Read Comments Submitted By Other People?

You may read the comments received by Docket Management at the address given above under ADDRESSES. The hours of the Docket are indicated above in the same location.

You may also review filed public comments on the Internet. To read the comments on the Internet, go to http://www.regulations.gov. Follow the online instructions for accessing the dockets.

Please note that even after the comment closing date, we will continue to file relevant information in the Docket as it becomes available. Furthermore, some people may submit late comments. Accordingly, we recommend that you periodically check the Docket for new material.

VII. Rulemaking Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations or recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, NHTSA tentatively concludes that if made final, this proposed rule will not have any quantifiable cost effect on motor vehicle manufacturers. The proposed rule would not impose any new requirements but would instead relieve a restriction. In this document, NHTSA proposes to exclude horn controls activated by the driver pressing on the center of the face plane of the steering wheel from the standard's requirement that an identifier be provided. We believe that if this proposal is made final, there will be no measurable effect on safety. As discussed above, driver confusion as to the location of the horn control decreases as the horn control returns to the center of the steering wheel hub where drivers intuitively expect to find it. If the horn control is located where drivers expect it, there is little safety benefit from the presence of the horn identifier.

Because the economic effects of this proposal are so minimal, no further regulatory evaluation is necessary.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR Part 121 define a small business, in part, as a business entity “which operates primarily within the United States.” (13 CFR § 121.105(a)). No regulatory flexibility analysis is required if the head of an agency certifies that the rule will not have a significant economic impact on a substantial number of small entities. The SBREFA amended the Regulatory Flexibility Act to require Federal agencies to provide a statement of the factual basis for certifying that a rule will not have a significant economic impact on a substantial number of small entities.

I have considered the effects of this rulemaking action under the Regulatory Flexibility Act (5 U.S.C. 601 et seq.) and certify that this proposed rule will not have a significant economic impact on a substantial number of small entities. The proposed rule would not impose any new requirements but would instead relieve a restriction.

For these reasons, and for the reasons described in our discussion on Executive Order 12866 and DOT Regulatory Policies and Procedures, NHTSA concludes that this proposed rule will not have a significant economic impact on a substantial number of small entities.

C. National Environmental Policy Act

NHTSA has analyzed this rulemaking action for the purposes of the National Environmental Policy Act. The agency has determined that implementation of this action will not have any significant impact on the quality of the human environment.

D. Executive Order 13132 (Federalism)

NHTSA has analyzed this proposed rule in accordance with the principles and criteria set forth in Executive Order 13132, Federalism and has determined that it does not have sufficient Federalism implications to warrant consultation with State and local officials or the preparation of a Federalism summary impact statement. If made final, this proposed rule will not have any substantial impact on the States, or on the current Federal-State relationship, or on the current distribution of power and responsibilities among the various local officials.

E. Executive Order 12988 (Civil Justice Reform)

This proposal would not have any retroactive effect. Under 49 U.S.C. 21403, whenever a Federal motor vehicle safety standard is in effect, a State may not adopt or maintain a safety standard applicable to the same aspect of performance which is not identical to the Federal standard, except to the extent that the state requirement imposes a higher level of performance and applies only to vehicles procured for the State's use. 49 U.S.C. 21461 sets forth a procedure for judicial review of final rules establishing, amending or revoking Federal motor vehicle safety standards. That section does not require submission of a petition for reconsideration or other administrative proceedings before parties may file suit in court.

F. Paperwork Reduction Act

Under the Paperwork Reduction Act of 1995, a person is not required to respond to a collection of information by a Federal agency unless the collection displays a valid Office of Management and Budget (OMB) control number. This proposed rule does not require any collections of information, or recordkeeping or retention requirements as defined by the OMB in 5 CFR Part 1320.

G. National Technology Transfer and Advancement Act

Section 12(d) of the National Technology Transfer and Advancement Act of 1995 (NTTAA), Public Law 104-113, section 12(d) (15 U.S.C. 272) directs NHTSA to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs the agency to provide Congress, through the OMB, explanations when we decide not to use available and applicable voluntary consensus standards.

After conducting a search of available sources, we have determined that there is no applicable voluntary consensus standard for this proposed rule.

H. Unfunded Mandates Reform Act

Section 202 of the Unfunded Mandates Reform Act of 1995 (UMRA) requires Federal agencies to prepare a written assessment of the costs, benefits, and other effects of proposed or final rules that include a Federal mandate likely to result in the expenditure by State, local or tribal governments, in the aggregate, or by the private sector, of more than $100 million in any one year (adjusted for inflation with base year of 1995). Before promulgating a rule for which a written statement is needed, section 205 of the UMRA generally requires NHTSA to identify and consider a reasonable number of regulatory alternatives and adopt the least costly, most cost-effective, or least burdensome alternative that achieves the objectives of the rule. The provisions of section 205 do not apply when they are inconsistent with applicable law. Moreover, section 205 allows NHTSA to adopt an alternative other than the least costly, most cost-effective or least burdensome alternative if the agency publishes with the final rule an explanation why that alternative was not adopted.

If made final, this proposed rule will not result in the expenditure by State, local, or tribal governments, in the aggregate, or by the private sector of more than $100 million annually. Accordingly, this rule is not subject to the requirements of sections 202 and 205 of the UMRA.

I. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, and Tires.

In consideration of the foregoing, it is proposed that 49 CFR part 571 be amended as set forth below:

PART 571—FEDERAL MOTOR VEHICLE SAFETY STANDARDS

1. The authority citation for part 571 continues to read as follows:

Authority: 49 U.S.C. 322, 30111, 30115, 30117, and 30166; delegation of authority at 49 CFR 1.50.

2. Amend § 571.101 by revising the last sentence in S5.2.1, and by revising S5.4.3, to read as follows:

§ 571.101 Standard No. 101, Controls, telltales, and indicators.

* * * * *

S5.2.1 * * * No identification is required for any horn (i.e., audible warning signal) that is activated by a lanyard or by the driver pressing on the center of the face plane of the steering wheel, or for a turn signal control that is operated in a plane essentially parallel to the face plane of the steering wheel in its normal driving position and which is located on the left side of the steering column so that it is the control on that side of the column nearest to the steering wheel face plane.

* * * * *

S5.4.3 Each identifier used for the identification of a telltale, control or indicator must be in a color that stands out clearly against the background. However, no identifier is required for a horn control activated by the driver pressing on the center of the face plane of the steering wheel. For vehicles with a GVWR of under 4,536 kg (10,000 pounds), the compliance date for this provision is September 1, 2011.

* * * * *

Issued on: September 21, 2007.
Stephen R. Kratzke,
Associate Administrator for Rulemaking.

[FR Doc. E7-19365 Filed 10-3-07; 8:45 am]

BILLING CODE 4910-59-P